DEPARTMENT OF THE INTERIOR

National Park Service

[NPS-WASO-NAGPRA-19193; PPWOCRADN0-PCU00RP14.R50000]

Notice of Inventory Completion: Arizona State Museum, University of Arizona, Tucson, AZ

AGENCY: National Park Service, Interior.

ACTION: Notice.

SUMMARY: The Arizona State Museum, University of Arizona, has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Arizona State Museum. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the Arizona State Museum at the address in this notice by November 2, 2015.

ADDRESSES: John McClelland, NAGPRA Coordinator, P.O. Box 210026, Arizona State Museum, University of Arizona, Tucson, AZ 85721, telephone (520) 626-2950.

SUPPLEMENTARY INFORMATION: Notice is here given in accordance with the Native American Graves Protection and Repatriation Act (NAGPRA), 25 U.S.C. 3003, of the completion of an inventory of human remains and associated funerary objects under the control of Arizona State Museum, Tucson, AZ (ASM). The human remains and associated funerary objects were removed from unknown locations, likely within Yavapai County, AZ.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the ASM professional staff in consultation with representatives of the Ak Chin Indian Community of the Maricopa (Ak Chin) Indian Reservation, Arizona; Fort McDowell Yavapai Nation, Arizona; Gila River Indian Community of the Gila River Indian Reservation; Hopi Tribe of Arizona; Salt River Pima-Maricopa Indian Community of the Salt River Reservation, Arizona; Hualapai Indian Tribe of the Hualapai Indian Reservation, Arizona; San Carlos Apache Tribe of the San Carlos Reservation, Arizona; Tohono O'odham Nation of Arizona; Tonto Apache Tribe of Arizona; White Mountain Apache Tribe of the Fort Apache Indian Reservation, Arizona; Yavapai-Apache Nation of the Camp Verde Indian Reservation, Arizona; Yavapai-Prescott Indian Tribe (previously listed as the Yavapai-Prescott Tribe of the Yavapai Reservation, Arizona); and the Zuni Tribe of the Zuni Reservation, New Mexico.

History and Description of the Remains

In 1932, human remains representing, at minimum, one individual were removed from an unknown location referred to as City Farm [AZ City Farm]. This plausibly refers to a former University of Arizona Extension facility located near Prescott, Yavapai County, AZ. No further information about the discovery is available. The human remains were received by the Sharlot Hall Historical Society in Prescott, AZ on an unknown date. In 1979, the human remains were transferred to ASM. No known individuals were identified. No associated funerary objects are present.

On an unknown date, human remains representing, at minimum, one individual were removed from an unspecified location in Cottonwood, Yavapai County, AZ [AZ Cottonwood]. No further information about the original discovery is available. The human remains were transferred to ASM in 1995 by a resident of Cottonwood, AZ. No known individuals were identified. No associated funerary objects are present.

In 1909, human remains representing, at minimum, one individual were removed from an unknown location, likely near Camp Verde, Yavapai County, AZ [AZ FV60-11-001]. The human remains were originally acquired by Camp Verde resident Charles German. No further information about the discovery is available. At an unknown date, the human remains were received by Arizona State Parks. In 1998, the human remains were transferred to ASM. No known individuals were identified. No associated funerary objects are present.

On unknown dates prior to 1979, human remains representing, at minimum four individuals were removed from unknown locations, most likely in Yavapai County, AZ [AZ Yavapai County]. No further information about the original discoveries is available. The human remains were received by the Sharlot Hall Historical Society in Prescott, AZ prior to 1979. In 1979, the human remains were transferred to ASM. No known individuals were identified. No associated funerary objects are present.

In 1963, human remains representing, at minimum, one individual were removed from an unspecified location near Prescott, AZ [AZ YCSO DR-63-195]. On an unknown date, the human remains were received by the Yavapai County Sheriff's Office and subsequently sent to the Maricopa County Medical Examiner's Office for examination. In 1994, the Yavapai County Sheriff's Office transferred the human remains to ASM. No known individuals were identified. No associated funerary objects are present.

On an unknown date, human remains representing, at minimum, one individual were removed from an unknown location in the Chino Valley, Yavapai County, AZ [AZ N:— Chino Valley]. The discovery was made in the process of road construction. No further information about the discovery is available. On an unknown date, the human remains were received by the Smoki Museum in Prescott, AZ. In 1991, the human remains were transferred to ASM. No known individuals were identified. No associated funerary objects are present.

On an unknown date, human remains representing, at minimum, two individuals were removed from an unknown location referred to as City Ranch [AZ N:— City Ranch]. This plausibly refers to a former University of Arizona Extension facility located near Prescott, Yavapai County, AZ. The burials were excavated by L.J. Fuller. No further information about the discovery is available. On an unknown date, the human remains were received by the Smoki Museum in Prescott, AZ. In 1991, the human remains were transferred to ASM. No known individuals were identified. No associated funerary objects are present.

On an unknown date, human remains representing, at minimum, two individuals were removed from an unknown location referred to as City Ranch [AZ O:5:— City Ranch]. This plausibly refers to a former University of Arizona Extension facility located near Prescott, Yavapai County, AZ. No further information about the discovery is available. On an unknown date, the human remains were received by the Sharlot Hall Historical Society in Prescott, AZ. In 1979, the human remains were transferred to ASM. No known individuals were identified. No associated funerary objects are present.

On an unknown date, human remains representing, at minimum, one individual were removed from an unknown location, possibly near Kirkland, Yavapai County, AZ [AZ N:— Kirkland]. No further information about the discovery is available. On an unknown date, the human remains were received by the Sharlot Hall Historical Society in Prescott, AZ. In 1979, the human remains were transferred to ASM. No known individuals were identified. No associated funerary objects are present.

In 1948, human remains representing, at minimum, one individual were removed from an unknown location described as a burial mound, possibly near Long Meadow Ranch, Yavapai County, AZ [AZ N:—Long Meadow Ranch]. The human remains were removed by Marvin Todd. No further information about the discovery is available. At an unknown date, the human remains were received by the Sharlot Hall Historical Society in Prescott, AZ. In 1979, the human remains were transferred to ASM. No known individuals were identified. No associated funerary objects are present.

On unknown dates, human remains representing, at minimum, 29 individuals were removed from unknown locations in Yavapai County, AZ [AZ N:—no provenience]. No further information about the discoveries is available. On an unknown date, the human remains were received by the Smoki Museum in Prescott, AZ. In 1991, the human remains were transferred to ASM. No known individuals were identified. No associated funerary objects are present.

In 1995, human remains representing, at minimum, one individual were removed from a construction site in the Verde Valley near Tuzigoot National Monument [AZ N:4:—Tuzigoot Vicinity]. The human remains were discovered by Fernando Argueta, while making adobe bricks. The human remains were transferred to ASM in 1995. No known individuals were identified. No associated funerary objects are present.

On an unknown date, human remains representing, at minimum, one individual were removed from Dolly Ranch in Yavapai County, AZ [AZ N:—Dolly Ranch]. No further information about the discovery is available. On an unknown date, the human remains were received by the Sharlot Hall Historical Society in Prescott, AZ. In 1979, the human remains were transferred to ASM. No known individuals were identified. No associated funerary objects are present.

On unknown dates, human remains representing, at minimum, seven individuals were removed from a location described as the Fairgrounds near Prescott, AZ [AZ N:7:—Fairgrounds]. No further information about the discovery is available. On unknown dates, the human remains were received by the Smoki Museum in Prescott, AZ. In 1991, the human remains were transferred to ASM. No known individuals were identified. The two associated funerary objects are unmodified animal bone fragments.

On an unknown date, human remains representing, at minimum, one individual were removed from Granite Creek near Prescott, AZ [AZ N:7:—Granite Creek]. No further information about the discovery is available. On an unknown date, the human remains were received by the Smoki Museum in Prescott, AZ. In 1991, the human remains were transferred to ASM. No known individuals were identified. No associated funerary objects are present.

On an unknown date, human remains representing, at minimum, one individual were removed from Lynx Creek in Yavapai County, AZ [AZ N:7:—Lynx Creek]. No further information about the discovery is available. On an unknown date, the human remains were received by the Sharlot Hall Historical Society in Prescott, AZ. In 1979, the human remains were transferred to ASM. No known individuals were identified. No associated funerary objects are present.

On an unknown date, human remains representing, at minimum, one individual were removed from an unknown location, possibly in Yavapai County, AZ [AZ Paulden vicinity]. No further information about the discovery is available. The human remains were obtained by a resident of Paulden, AZ on an unknown date. The recipient transferred the human remains to ASM in 2004. No known individuals were identified. No associated funerary objects are present.

On an unknown date, human remains representing, at minimum, one individual were removed from a location described as Sodium Sulphate Mines near Camp Verde, AZ [AZ O:—Sodium Sulphate Mines]. No further information about the discovery is available. On an unknown date, the human remains were received by the Sharlot Hall Historical Society in Prescott, AZ. In 1979, the human remains were transferred to ASM. No known individuals were identified. No associated funerary objects are present.

In the 1970s, human remains representing, at minimum, one individual were removed from an unknown location, possibly in the Verde Valley, AZ [AZ O:—Verde Valley]. The discovery was initially investigated by the Yavapai County Sheriff's Office. When determined not to be related to a criminal case, the human remains were placed in storage. In 2001, the human remains were rediscovered and the Sheriff's Office sent them to the Maricopa County Office of the Medical Examiner for assessment of ancestry. The human remains were assessed to be Native American and were subsequently transferred to ASM. No known individuals were identified. No associated funerary objects are present.

On an unknown date in the late 1940s or early 1950s, human remains representing, at minimum, one individual were removed from the surface of a small mound, possibly known as Sugarloaf Hill, in the Verde Valley, Yavapai County, AZ [AZ O:1:—Sugarloaf Hill]. The human remains were collected by Logan D. Dameron. In 1999, Mr. Dameron sent the human remains to ASM, requesting assistance in arranging respectful disposition. No known individuals were identified. No associated funerary objects are present.

On unknown dates, human remains representing, at minimum, two individuals were removed from an unknown location, possibly in Yavapai County, AZ [AZ O:5:—Verde River?]. No further information about the original discovery is available. On unknown dates, the human remains were obtained by Prescott College in Prescott, AZ. In 1978, the human remains were purchased from Prescott College by the Department of Anthropology, University of Arizona. Subsequently, the human remains were transferred to ASM. No known individuals were identified. No associated funerary objects are present.

Determinations Made by the Arizona State Museum

Officials of the Arizona State Museum have determined that:

• Pursuant to 25 U.S.C. 3001(9), the human remains described in this notice are Native American based on physical characteristics, including cranial and dental morphology and indications of antiquity.

• Pursuant to 25 U.S.C. 3001(9), the human remains described in this notice represent the physical remains of 61 individuals of Native American ancestry.

• Pursuant to 25 U.S.C. 3001(3)(A), the two objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Fort McDowell Yavapai Nation, Arizona; Hualapai Indian Tribe of the Hualapai Indian Reservation, Arizona; Tonto Apache Tribe of Arizona; Yavapai-Apache Nation of the Camp Verde Indian Reservation, Arizona; and Yavapai-Prescott Indian Tribe (previously listed as the Yavapai-Prescott Tribe of the Yavapai Reservation, Arizona).

• Treaties, Acts of Congress, or Executive Orders, indicate that the land from which the Native American human remains and associated funerary objects were removed is the aboriginal land of the San Carlos Apache Tribe of the San Carlos Reservation, Arizona; Tonto Apache Tribe of Arizona; White Mountain Apache Tribe of the Fort Apache Indian Reservation, Arizona; and Yavapai-Apache Nation of the Camp Verde Indian Reservation, Arizona.

• Pursuant to 43 CFR 10.11(c)(1), the disposition of the human remains and associated funerary objects may be to the Fort McDowell Yavapai Nation, Arizona; Hualapai Indian Tribe of the Hualapai Indian Reservation, Arizona; San Carlos Apache Tribe of the San Carlos Reservation, Arizona; Tonto Apache Tribe of Arizona; White Mountain Apache Tribe of the Fort Apache Indian Reservation, Arizona; Yavapai-Apache Nation of the Camp Verde Indian Reservation, Arizona; and Yavapai-Prescott Indian Tribe (previously listed as the Yavapai-Prescott Tribe of the Yavapai Reservation, Arizona).

Additional Requestors and Disposition

Representatives of any Indian tribe or Native Hawaiian organization not identified in this notice that wish to request transfer of control of these human remains and associated funerary objects should submit a written request with information in support of the request to John McClelland, NAGPRA Coordinator, P.O. Box 210026, Arizona State Museum, University of Arizona, Tucson, AZ 85721, telephone (520) 626-2950, by November 2, 2015. After that date, if no additional requestors have come forward, transfer of control of the human remains and associated funerary objects to the Fort McDowell Yavapai Nation, Arizona; Hualapai Indian Tribe of the Hualapai Indian Reservation, Arizona; San Carlos Apache Tribe of the San Carlos Reservation, Arizona; Tonto Apache Tribe of Arizona; White Mountain Apache Tribe of the Fort Apache Indian Reservation, Arizona; Yavapai-Apache Nation of the Camp Verde Indian Reservation, Arizona; and Yavapai-Prescott Indian Tribe (previously listed as the Yavapai-Prescott Tribe of the Yavapai Reservation, Arizona) may proceed.

The Arizona State Museum is responsible for notifying the Fort McDowell Yavapai Nation, Arizona; Hualapai Indian Tribe of the Hualapai Indian Reservation, Arizona; San Carlos Apache Tribe of the San Carlos Reservation, Arizona; Tonto Apache Tribe of Arizona; White Mountain Apache Tribe of the Fort Apache Indian Reservation, Arizona; Yavapai-Apache Nation of the Camp Verde Indian Reservation, Arizona; and Yavapai-Prescott Indian Tribe (previously listed as the Yavapai-Prescott Tribe of the Yavapai Reservation, Arizona) that this notice has been published.

Dated: August 26, 2015.
Melanie O'Brien,
Manager, National NAGPRA Program.

[FR Doc. 2015-25030 Filed 9-30-15; 8:45 am]

BILLING CODE 4312-50-P